DEPARTMENT OF AGRICULTURE

Food and Nutrition Service

Agency Information Collection Activities: Proposed Collection: Comment Request—EmpowHR/Person Model Non-Employee Data Sheet—FNS-775

AGENCY: Food and Nutrition Service (FNS), USDA.

ACTION: Notice.

SUMMARY: In accordance with the Paperwork Reduction Act of 1995, this notice invites the general public and other public agencies to comment on this proposed information collection. This is an existing collection in use without an OMB control number. The purpose of this information collection request is to continue the use of the form FNS-775, to automate the form, and to revise the title from “Background Investigation Request for Contractor Employees” to “EmpowHR/Person Model Non-Employee Data Sheet.” This form will continue to provide for the collection of Personal Identifiable Information (PII) required to conduct background investigation which is a pre-requisite for all non-FNS employees (contractor, intern, volunteers, etc.) to be granted a security clearance for employment at all FNS locations.

DATES: Written comments must be received on or before August 23, 2022.

ADDRESSES: Comments may be sent to: Lawrence Laurato, Food and Nutrition Service, U.S. Department of Agriculture, 1320 Braddock Place, Alexandria, VA 22314. Comments may be sent via email to lawrence.laurato@usda.gov. Comments will also be accepted through the Federal eRulemaking Portal. Go to http://www.regulations.gov, and follow the online instructions for submitting comments electronically. All responses to this notice will be summarized and included in the request for Office of Management and Budget approval. All comments will be a matter of public record.

FOR FURTHER INFORMATION CONTACT: Requests for additional information or copies of this information collection should be directed to Lawrence Laurato at 703-305-2411.

SUPPLEMENTARY INFORMATION: Comments are invited on: (a) Whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: EmpowHR/Person Model Non-Employee Data Sheet.

Form Number: FNS-775.

OMB Number: 0584-NEW.

Expiration Date: Not Yet Determined.

Type of Request: This is an existing collection in use without an OMB control number.

Abstract: The data collected for FNS-775 titled EmpowHR/Person Model Non-Employee Data Sheet is used to input the USDA, Food and Nutrition Service's non-employee (contractor, intern, volunteer, etc.) information into EmpowHR/Person Model. The data collected is for the specific purpose of sponsorship for the agency's Personal Identity Verification (PIV) credential and background investigation required for access to agency facilities, systems, and information.

Affected Public: (a) Individual/Households; (b) Business or Other For Profit; (e) Federal Government;

Respondent type: All USDA FNS non-employee affiliates.

Estimated Number of Respondents: 750.

The respondents are agency non-employee affiliates at all FNS locations across the nation, inclusive of the FNS Headquarters in Alexandria, VA and at the seven (7) FNS regional offices across the USA. The estimated annual number of respondents who will be required to provide personal data for the FNS-775 for a requisite background investigation request are 750.

Estimated Number of Responses per Respondent: 1.

Estimated Total Annual Responses: 750.

Estimated Time per Response: 0.167 of an hour. Each respondent takes approximately 0.167 of an hour, or 10 minutes, to provide the required information.

Estimated Total Annual Burden on Respondents: 125.25 hours.

See the table below for estimated total annual burden for each type of respondent.

Affected public | Respondent type | Form No. | Number of respondents | Number of responses annually per respondent | Total annual responses | Estimate of burden hours per response | Total annual burden hours
Individuals/Households | Agency non-employee affiliates | FNS 775 | 750 | 1 | 750 | 0.167 | 125.25
Business |  |  |  | 1 |  | 0.167
Federal Government |  |  |  | 1 |  | 0.167
Annualized Totals |  |  | 750 | 1 | 750 | 0.167 | 125.25

Cynthia Long,
Administrator, Food and Nutrition Service.

[FR Doc. 2022-13514 Filed 6-23-22; 8:45 am]

BILLING CODE 3410-30-P